DEPARTMENT OF HEALTH AND HUMAN SERVICES

Health Resources and Services Administration

Notice of Availability of Policy Document

AGENCY: Health Resources and Services Administration (HRSA), HHS.

ACTION: Final Agency Guidance and Opportunity for Public Comments on Draft Section.

SUMMARY: HRSA is publishing Agency Guidance (“Policy Information Notice” (PIN) 2013-01) to provide clarification on the budgeting and accounting requirements for federally-funded health centers and Look-Alikes. The PIN, “Health Center Budgeting and Accounting Requirements” is available on the Internet at http://bphc.hrsa.gov/policiesregulations/policies/pin201301.html.

Background: HHS' Health Resources and Services Administration (HRSA) provides grants to eligible health centers under section 330 of the Public Health Service Act to support the delivery of preventive and primary care services to medically underserved communities and vulnerable populations. In 2012, grants helped fund more than 1,200 health center grantees that provided services at nearly 9,000 health care delivery sites and served more than 21 million people. There are also over 100 Look-Alikes. Look-Alikes, as described in section 1861(aa)(4) and section 1905(l)(2)(B) of the Social Security Act, do not receive federal funding under section 330 of the PHS Act; however, to receive the Look-Alike designation and benefits, Look-Alikes must meet the statutory, regulatory, and policy requirements for health centers programs under section 330.

Under 45 CFR Part 74, a key requirement of the Health Center Program is for a health center to establish a budget that reflects the cost of operations, expenses, and revenues necessary to accomplish the service delivery plan. All section 330-funded health centers and Look-Alikes must prepare a budget that meets these requirements. The purpose of this PIN is to provide clarification regarding budgeting and accounting requirements for health centers to ensure transparency and accountability.

In addition to making the final PIN available on HRSA's Web site, HRSA is also making available a section of this PIN for public comment. HRSA will review and analyze all comments on this section and issue final PIN. When finalized, this section of the PIN will supersede all other previous Health Center Program guidance and policy issued on this program requirement.

FOR FURTHER INFORMATION CONTACT: For questions regarding this notice, please contact the Office of Policy and Program Development, Bureau of Primary Health Care, HRSA, at OPPDBudgetPIN@hrsa.gov.

Dated: July 2, 2013.
Mary K. Wakefield,
Administrator.

[FR Doc. 2013-16505 Filed 7-9-13; 8:45 am]

BILLING CODE 4165-15-P